GENERAL SERVICES ADMINISTRATION

Office of Management Services; Cancellation of an Optional Form by the Department of State

AGENCY: General Services Administration.

ACTION: Notice.

SUMMARY: The Department of State is cancelling the following Optional Form because of low demand in the Federal Supply Service: OF 127, Receiving and Inspection Report.

This form will be converted to a State Department form. You can request copies of the new form from: Department of State, A/RPS/DIR, 18th and G Streets, NW., Suite 2400, Washington, DC 20522-2201.

FOR FURTHER INFORMATION CONTACT: Mr. Charles Cunningham, Department of State, 202-312-9605.

DATES: Effective September 24, 2002.

Dated: September 10, 2002.
Barbara M. Williams,
Deputy Standard and Optional Forms Management Officer, General Services Administration.

[FR Doc. 02-24175 Filed 9-23-02; 8:45 am]

BILLING CODE 6820-34-M